DEPARTMENT OF DEFENSE

Department of the Air Force

[Docket ID USAF-2008-0028]

Privacy Act of 1974; System of Records

AGENCY: Department of the Air Force, DoD.

ACTION: Notice to Add a New System of Records.

SUMMARY: The Department of the Air Force proposes to add a new system of records to its inventory of record systems subject to the Privacy Act of 1974 (5 U.S.C. 552a), as amended.

DATES: The proposed action will be effective on December 12, 2008, unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on October 24, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 3, 2008.
Morgan E. Frazier,
Alternate OSD Federal Register Liaison Officer, Department of Defense.

AETC F036 AETC Z

System Name:

Basic Training Management System (BTMS) Records.

System Location:

Training Delivery & Administration, 737th Training Support Squadron (737 TRSS/TSDT), 737 Training Group, Bldg 6420,1618 Truemper Street, Lackland AFB, TX 78236-5511.

Categories of Individuals Covered By the System:

U.S. Air Force enlisted trainees.

Categories of Records in the System:

Individual student records containing individual's name, Social Security Number (SSN), written test results, physical fitness results, counseling records, training progress check results, emergency notification data, height/weight information, training waivers, discharge case disposition (if applicable), and other documents pertaining to student accountability and administration.

Authority for Maintenance of the System:

10 U.S.C. 8013, Secretary of the Air Force; as implemented by Air Force Instruction 36-2608, Air Education and Training Command Instruction (AETCI) 36-2203, Training Administration and E.O. 9397 (SSN).

Purpose:

Used to evaluate and record performance/progress of student, and to determine generate statistics to measure the health and effectiveness of Basic Military Training (BMT).

Routine Uses of Records maintained In the System Including Categories of Users and the Purpose of Such Uses:

In addition to those disclosures generally permitted under 5 U.S.C. 552a(b) of the Privacy Act, these records or information contained therein may specifically be disclosed outside the DoD as a routine use pursuant to 5 U.S.C. 552a(b)(3).

The DoD “Blanket Routine Uses” published at the beginning of the Air Force's compilation of systems of records notices apply to this system.

Policies and Practices for Storing, Retrieving, Accessing, Retaining and Disposing Of Records in the System:

Storage:

Electronic Storage Media.

Retrievability:

By name and Social Security Number (SSN).

Safeguards:

Records are accessed by person(s) responsible for servicing the record system in performance of their official duties, and by authorized personnel who are properly screened and cleared for need-to-know. All access is based upon role-based logons. User's level of access is restricted by their role within the organization.

Retention and disposal:

Computer data is actively maintained only for the period the trainee is enrolled in basic military training. Upon graduation, data is retained for 18 months and destroyed by deleting files, erasing, degaussing or overwriting using approved Air Force procedures and products.

System Manager and Address:

Department of the Air Force, Chief, Training Delivery & Administration, 737th Training Support Squadron (737 TRSS/TSDT), 1618 Truemper Street, Lackland AFB TX 78236-5511.

Notification Procedure:

Individuals seeking to determine whether information about themselves is contained in this system should address written inquiries to or visit the 737th Training Group, 1618 Truemper Street, Lackland AFB TX 78236-5511 or via e-mail at 737TRG.CCE@Lackland.af.mil.

Request must contain name and Social Security Number (SSN).

Record Access Procedures:

Individuals seeking access to information about themselves contained in this system should address written inquiries to or visit the 737th Training Group, 1618 Truemper Street, Lackland AFB TX 78236-5511 or via e-mail at 737TRG.CCE@Lackland.af.mil.

Request must contain name and Social Security Number (SSN).

Contesting Records Procedures:

The Air Force rules for accessing records, and for contesting contents and appealing initial agency determinations are published in Air Force Instruction 33-332; 32 CFR part 806b; or may be obtained from the system manager.

Record Source Categories:

Personal data on recruits is received electronically from the Technical Training Management System (TTMS). Training data is input by personnel assigned to the 737th Training Group.

Exemptions Claimed For The System:

None.

[FR Doc. E8-26775 Filed 11-10-08; 8:45 am]

BILLING CODE 5001-06-P